DEPARTMENT OF ENERGY

Federal Energy Regulatory Commission

[Docket No. EL16-97-000]

NextEra Energy Transmission West, LLC; Notice of Institution of Section 206 Proceeding and Refund Effective Date

On August 5, 2016, the Commission issued an order in Docket No. EL16-97-000, pursuant to section 206 of the Federal Power Act (FPA), 16 U.S.C. 824e (2012), instituting an investigation into whether the formula rate protocols of NextEra Energy Transmission West, LLC may be unjust, unreasonable, unduly discriminatory or preferential. NextEra Energy Transmission West, LLC, 156 FERC ¶ 61,095 (2016).

The refund effective date in Docket No. EL16-97-000, established pursuant to section 206(b) of the FPA, will be the date of publication of this notice in the Federal Register.

Dated: August 5, 2016.
Nathaniel J. Davis, Sr.,
Deputy Secretary.

[FR Doc. 2016-19074 Filed 8-10-16; 8:45 am]

BILLING CODE 6717-01-P